FEDERAL TRADE COMMISSION

Granting of Request for Early Termination of the Waiting Period Under the Premerger Notification Rules

February 2, 2010.

Section 7A of the Clayton Act, 15 U.S.C. 18a, as added by Title II of the Hart-Scott Rodino Antitrust Improvements Act of 1976, requires persons contemplating certain mergers or acquisitions to give the Federal Trade Commission and the Assistant Attorney General advance notice and to wait designated periods before consummation of such plans. Section 7A(b)(2) of the Act permits the agencies, in individual cases, to terminate this waiting period prior to its expiration and requires that notice of this action be published in the Federal Register.

The following transactions were granted early termination of the waiting period provided by law and the premerger notification rules. The grants were made by the Federal Trade Commission and the Assistant Attorney General for the Antitrust Division of the Department of Justice. Neither agency intends to take any action with respect to these proposed acquisitions during the applicable waiting period.

Transaction Granted Early Termination
ET date | Trans No. | ET req status | Party name
11-JAN-10 | 20100293 | G | Tang Hsiang Chien.
|  | G | TTM Technologies, Inc.
|  | G | TTM Technologies, Inc.
| 20100306 | G | Admiral Beverage Corporation.
|  | G | Joe G. Maloof and Company.
|  | G | Maloof Distributing LLC.
| 20100309 | G | Apollo Investment Fund VII, L.P.
|  | G | Cedar Fair, L.P.
|  | G | Cedar Fair, L.P.
12-JAN-10 | 20100277 | G | Intermediate Capital Group PLC.
|  | G | Computer Patent Annuities Holdings Limited.
|  | G | Computer Patent Annuities Holdings Limited.
| 20100308 | G | Johnson & Johnson.
|  | G | Acclarent, Inc.
|  | G | Acclarent, Inc.
13-JAN-10 | 20100262 | G | American Express Company.
|  | G | Stephen M. Case.
|  | G | Revolution Money Inc.
| 20100268 | G | Microsoft Corporation.
|  | G | Sentillion, Inc.
|  | G | Sentillion, Inc.
| 20100294 | G | George J. Pedersen.
|  | G | Michael Gualario.
|  | G | Sensor Technologies Incorporated.
14-JAN-10 | 20100296 | G | Francisco Partners II, LP.
|  | G | QuadraMed Corporation.
|  | G | QuadraMed Corporation.
15-JAN-10 | 20100275 | G | A. Schulman, Inc.
|  | G | ICO, Inc.
|  | G | ICO, Inc.
| 20100319 | G | Chardan 2008 China Acquisition Corp.
|  | G | David J. Stern.
|  | G | Default Servicing Inc.
|  | G | DJS Processing, LLC.
|  | G | Professional Title and Abstract Companyof Florida, LLC.
|  | G | Professional Title and Abstract Company of Florida, Inc.
|  | G | The Law Offices of David J. Stern.
|  | G | Default Servicing, LLC.
19-JAN-10 | 20100282 | G | Superior Plus Corp.
|  | G | Griffith Holdings, Inc.
|  | G | Griffith Energy, Inc.
20-JAN-10 | 20100289 | G | International Business Machines Corporation.
|  | G | Lombardi Software, Inc.
|  | G | Lombardi Software, Inc.
| 20100297 | G | General Atlantic Partners (Bermuda) II, L.P.
|  | G | Markit Group Holdings Limited.
|  | G | Markit Group Holdings Limited.
21-JAN-10 | 20100288 | G | Carl C. Icahn.
|  | G | Take-Two Interactive Software, Inc.
|  | G | Take-Two Interactive Software, Inc.
22-JAN-10 | 20100328 | G | The Oklahoma Publishing Company.
|  | G | Pavestone Holdings, LLC.
|  | G | Pavestone Holdings, LLC.
25-JAN-10 | 20100318 | G | Atlas Copco AB.
|  | G | EnPro Industries, Inc.
|  | G | Coltec Industries, Inc.
| 20100326 | G | Morgan Stanley Capital Partners V U.S.
|  |  | Holdco LLC.
|  | G | The Penn Traffic Company.
|  | G | The Penn Traffic Company.
| 20100332 | G | Fort Chicago Energy Partners, L.P.
|  | G | United States Power Fund, L.P.
|  | G | ElF Northbrook, LLC.
| 20100333 | G | SAIC, Inc.
|  | G | Cloudshield Technologies, Inc.
|  | G | Cloudshield Technologies, Inc.
| 20100355 | G | The Williams Companies, Inc.
|  | G | Williams Partners L.P.
|  | G | Williams Partners L.P.
| 20100358 | G | Liberty Media Corporation.
|  | G | Live Nation, Inc.
|  | G | Live Nation, Inc.
26-JAN-10 | 20100349 | G | Atlas Acquisition Holdings Corp.
|  | G | D. Stephen Sorensen.
|  | G | New Koosharem Corporation.
|  | G | Koosharem Corporation.
27-JAN-10 | 20090725 | G | Danaher Corporation.
|  | G | MDS Inc.
|  | G | MDS Analytical Technologies (Shanghi).
|  | G | Limted MDS Analytical Technolgies GmbH.
|  | G | MDS Analytical Technologies (Hong Kong) Limited.
|  | G | MDS Analytical Technologies (GB) Ltd.
|  | G | MDS Analytical Technologies lnstrumentacao Cientifica.
|  | G | MDS Analytical Technolgies (US) Inc.
|  | G | Molecular Devices Korea, LLC.
|  | G | Applied Biosystem s/MDS Analytical Technologies Instruments.
|  | G | MDS Life Sciences (Sinapore) Ptd. Ltd.
|  | G | Nihon Molecular Devices Co., Ltd.
|  | G | Blueshift Biotechnologies, Inc.
|  | G | PerkinElmer Sciex Instruments.
|  | G | MDS.
| 20100343 | G | 72 Mobile Investors, LLC.
|  | G | Airvana, Inc.
|  | G | Airvana, Inc.
| 20100018 | G | Coventry Health Care, Inc.
|  | G | Marian Health System, Inc.
|  | G | Preferred Health Systems, Inc.
| 20100019 | G | Coventry Health Care, Inc.
|  | G | Ascension Health.
|  | G | Preferred Health Systems, Inc.
| 20100317 | G | Novartis Pharma AG.
|  | G | Corthera, Inc.
|  | G | Corthera, Inc.
| 20100340 | G | Pattern Energy Group Holdings LP.
|  | G | Babcock & Brown Limited (Liquidators Appointed).
|  | G | Texas Gulf Wind LLC.
| 20100344 | G | China National Petroleum Corporation.
|  | G | ION Geophysical Corporation.
|  | G | ION Geophysical Corporation.
29-JAN-10 | 20100329 | G | EMC Corporation.
|  | G | Yahoo! Inc.
|  | G | Zimbra, Inc.
| 20100350 | G | Shenandoah Valley Electric Cooperative.
|  | G | Allegheny Energy, Inc.
|  | G | The Potomac Edison Company.
| 20100352 | G | Rappahannock Electric Cooperative.
|  | G | Allegheny Energy, Inc.
|  | G | The Potomac Edison Company.
| 20100356 | G | GridPoint, Inc.
|  | G | David Gelbaum and Monica Chavez Gelbaum.
|  | G | Standard Renewable Energy, LP.
| 20100362 | G | Molina Healthcare, Inc.
|  | G | Unisys Corporation.
|  | G | Unisys Corporation.
| 20100363 | G | Elevation Partners, L.P.
|  | G | Yelp!, Inc.
|  | G | Yelp!, Inc.
| 20100368 | G | Limelight Networks, Inc.
|  | G | EyeWonder, Inc.
|  | G | EyeWonder, Inc.
| 20100372 | G | Liberty Media Corporation.
|  | G | Live Nation Entertainment, Inc.
|  | G | Live Nation Entertainment, Inc.

FOR FURTHER INFORMATION CONTACT: Sandra M. Peay, Contact Representative or Renee Hallman, Contact Representative. Federal Trade Commission, Premerger Notification Office, Bureau of Competition, Room H-303 Washington, DC 20580, (202) 326-3100.

By Direction of the Commission.
Donald S. Clark,
Secretary.

[FR Doc. 2010-3590 Filed 2-25-10; 8:45 am]

BILLING CODE 6750-01-M